DEPARTMENT OF HOMELAND SECURITY

Coast Guard

33 CFR Part 100

[Docket No. USCG-2024-0299]

Special Local Regulations; Montlake Cut, Lake Washington, Seattle, Washington

AGENCY: Coast Guard, DHS.

ACTION: Notification of enforcement of regulation.

SUMMARY: The Coast Guard will enforce special local regulations for the Windermere Cup on May 4, 2024, from 8 a.m. to 12 p.m. to provide for the safety of life on navigable waterways during this event. Our regulation for marine events within the Thirteenth Coast Guard District identifies the regulated area for this event on the Montlake Cut and Union Bay Reach between Portage Bay and Webster Point on Lake Washington in Seattle, WA. During the enforcement period, the operator of any vessel in the regulated area must comply with directions from the Patrol Commander or any Official Patrol displaying a Coast Guard ensign.

DATES: The regulations in 33 CFR 100.1311 will be enforced May 4, 2024, from 8 a.m. to 12 p.m.

FOR FURTHER INFORMATION CONTACT: If you have questions about this notification of enforcement, call or Lieutenant Junior Grade Kaylee K. Lord, Sector Puget Sound Waterways Management Division, Coast Guard; telephone 206-217-6045, email SectorPugetSound@uscg.mil.

SUPPLEMENTARY INFORMATION: The Coast Guard will enforce special local regulations in 33 CFR 100.1311 for the Windermere Cup on May 4, 2024, from 8 a.m. to 12 p.m. This action is being taken to provide for the safety of life on navigable waterways during this one-day event. Our regulation for marine events within the Thirteenth Coast Guard District, § 100.1311(a), specifies the location of the regulated area for the Windermere Cup which encompasses waters from Montlake Cut and Union Bay Reach between Portage Bay and Webster Point on Lake Washington in Seattle, WA. During the enforcement period, as reflected in § 100.1311, if you are the operator of a vessel in the regulated area you must comply with directions from the Patrol Commander or any Official Patrol displaying a Coast Guard ensign.

In addition to this notification of enforcement in the Federal Register, the Coast Guard plans to provide notification of this enforcement period and modifications, if any, via the Local Notice to Mariners and marine information broadcasts.

Dated: May 1, 2024.
Mark. A. McDonnell,
Captain, U.S. Coast Guard, Captain of the Port Sector Puget Sound.

[FR Doc. 2024-09815 Filed 5-3-24; 8:45 am]

BILLING CODE 9110-04-P